DEPARTMENT OF THE TREASURY

Solicitation of Nominations for Membership on the Treasury Advisory Committee on Racial Equity

AGENCY: Department of the Treasury.

ACTION: Solicitation of nominations for membership on the Treasury Advisory Committee on Racial Equity.

SUMMARY: The Treasury Department is soliciting nominations for membership on the Treasury Advisory Committee on Racial Equity (TACRE). The TACRE is composed of up to 25 members who will provide information, advice and recommendations to the Department of the Treasury on matters relating to the advancement of racial equity. This notice provides expectations for Committee members and announces the process for applying for membership on the Committee.

DATES: Applications are due on or before April 15, 2022.

FOR FURTHER INFORMATION CONTACT: Janis Bowdler, Counselor for Racial Equity, Department of Treasury, (202) 622-3002, Equity@Treasury.gov.

SUPPLEMENTARY INFORMATION: Pursuant to the Federal Advisory Committee Act (FACA) (5 U.S.C. app., as amended), the Department of the Treasury (“Department”) has established the Treasury Advisory Committee on Racial Equity (“Committee”). The Department has determined that establishing this committee is necessary and in the public interest in order to carry out the provisions of Executive Order 13985, Advancing Racial Equity and Support for Underserved Communities Throughout the Federal Government.

Committee Membership

In order to achieve a fairly balanced membership, the Committee shall include representatives from a wide range of views, such as the Federal government, financial services industry, state regulatory authorities, consumer or public advocacy organizations, community-based groups, academia, philanthropic organizations, as well as others focused on the advancement of equity priorities within the United States. Membership balance will not be static and may change, depending on the work of the Committee. The number of Committee members shall not exceed twenty-five. The Committee shall meet at such intervals as are necessary to carry out its duties. It is estimated that the Committee will generally meet four times per year, virtually or in person. Generally, Committee meetings are open to the public.

Background

Objectives and Duties

The purpose of the Committee is to provide advice and recommendations to the Department of the Treasury to assist the Offices of the Secretary and Deputy Secretary in carrying out their duties and authorities towards advancing racial equity and addressing acute disparities for communities of color who have been historically underserved, marginalized, and adversely affected by persistent poverty and inequality.

The Committee will provide an opportunity for experts to offer their advice and recommendations to the Office of the Secretary on a regular basis on aspects of the domestic economy that have directly and indirectly resulted in unfavorable conditions for Black, Latino, and Indigenous and Native American persons, Asian Americans and Pacific Islanders and other persons of color. Topics to be addressed by the Committee may include, but are not limited to, financial inclusion, capital access, housing stability, federal government supplier diversity and economic development.

The duties of the Committee shall be solely advisory and shall extend only to the submission of advice and recommendations to the Offices of the Secretary and Deputy Secretary, which shall be non-binding to the Department. No determination of fact or policy shall be made by the Committee. Membership appointments are for a duration of two years. Members will not receive compensation, other than reimbursement for travel, if required.

Application Process for Advisory Committee Appointment

Applicants are required to submit the following documents specifically referencing the objectives and duties outlined above:

• A one (1) page cover letter detailing their qualifications and areas of expertise as they relate to the key issues before the committee; and

• A two (2) page resume/curriculum vitae, which should clearly highlight relevant experience that addresses the focus areas of TACRE.

Nominations may be submitted by the candidate him- or herself or by the person/organization recommending the candidate.

Some members of the Committee may be required to adhere to the conflict of interest rules applicable to Special Government Employees, as such employees are defined in 18 U.S.C. 202(a). These rules include relevant provisions in 18 U.S.C. related to criminal activity, Standards of Ethical Conduct for Employees of the Executive Branch (5 CFR part 2635), and Executive Order 12674 (as modified by Executive Order 12731).

In accordance with Department of Treasury Directive 21-03, a clearance process includes fingerprints, tax checks, and a Federal Bureau of Investigation criminal check. Applicants must state in their application that they agree to submit to these pre-appointment checks.

The application period for interested candidates will extend to the date outlined above. Applications should be submitted in sufficient time to be received by the close of business on the closing date and should be sent to Equity@treasury.gov.

Janis Bowdler,
Counselor for Racial Equity.

[FR Doc. 2022-07088 Filed 4-4-22; 8:45 am]

BILLING CODE 4810-AK-P